DEPARTMENT OF AGRICULTURE

Food Safety and Inspection Service

[Docket No. FSIS-2023-0011]

Notice of Request for a New Information Collection: Qualitative Research on Food Safety Behaviors Among Parents and Caregivers Who Prepare Meals for Minors or Older Adults. In Depth Interview Research

AGENCY: Food Safety and Inspection Service (FSIS), U.S. Department of Agriculture (USDA).

ACTION: Notice and request for comments.

SUMMARY: In accordance with the Paperwork Reduction Act of 1995 and the Office of Management and Budget (OMB) regulations, FSIS is announcing its intention to collect information from interviews on consumer food safety knowledge, attitudes, and behaviors. FSIS will also collect consumer responses to food safety messages related to home cooking to gather feedback on message content and format. This is a new information collection with 547 hours.

DATES: Submit comments on or before September 11, 2023.

ADDRESSES: FSIS invites interested persons to submit comments on this Federal Register notice. Comments may be submitted by one of the following methods:

• Federal eRulemaking Portal: This website provides commenters the ability to type short comments directly into the comment field on the web page or to attach a file for lengthier comments. Go to https://www.regulations.gov. Follow the on-line instructions at that site for submitting comments.

• Mail: Send to Docket Clerk, U.S. Department of Agriculture, Food Safety and Inspection Service, 1400 Independence Avenue SW, Mailstop 3758, Washington, DC 20250-3700.

• Hand- or Courier-Delivered Submittals: Deliver to 1400 Independence Avenue SW, Jamie L. Whitten Building, Room 350-E, Washington, DC 20250-3700.

Instructions: All items submitted by mail or electronic mail must include the Agency name and docket number FSIS-2023-0011. Comments received in response to this docket will be made available for public inspection and posted without change, including any personal information, to https://www.regulations.gov.

Docket: For access to background documents or comments received, call (202) 937-4272 to schedule a time to visit the FSIS Docket Room at 1400 Independence Avenue SW, Washington, DC 20250-3700.

FOR FURTHER INFORMATION CONTACT: Gina Kouba, Office of Policy and Program Development, Food Safety and Inspection Service, USDA, 1400 Independence Avenue SW, Mailstop 3758, South Building, Washington, DC 20250-3700; (202) 937-4272.

SUPPLEMENTARY INFORMATION:

Title: Qualitative Research on Food Safety Behaviors Among Parents and Caregivers who prepare meals for minors or older adults. In Depth Interview Research.

OMB Number: 0583-NEW.

Type of Request: Request for a new information collection.

Abstract: FSIS is announcing its intention to collect information from interviews on consumer food safety knowledge, attitudes, and behaviors. FSIS will also collect consumer responses to food safety messages related to home cooking to gather feedback on message content and format. This is a new information collection with 547 hours.

FSIS' Office of Public Affairs and Consumer Education makes sure members of the American public are equipped with the tools they need to reduce their risk of foodborne illness by teaching the public how to safely handle, prepare, and store food. Consumer education campaigns developed by OPACE's staff are created to promote safe food handling procedures and reduce the likelihood of foodborne illness.

OPACE works to continuously increase consumer knowledge of food safety practices with the intention of improving food-handling behaviors at home. Now, OPACE seeks to plan a new consumer education effort to promote food safety behaviors among populations that have not previously benefited from direct and tailored consumer food safety outreach in the past.

To extend its commitment to educating the public about food safety, FSIS is seeking to focus on the parents and caregivers or those who are providing care and preparing meals to at least one child or one older adult, as a priority audience for this new food safety campaign. To date, no known large-scale campaign efforts have been undertaken to provide specific and tailored messaging to address the individualized needs of African American/Black and Hispanic/Latino parents and caregivers who are preparing meals for minors or older adults. Therefore, this effort will specifically focus on African American/Black and Hispanic/Latino parents and caregivers who are preparing meals for minors or older adults. FSIS is taking this approach to carry out its commitment to reaching a broader range of audiences, including those who speak Spanish, with culturally appropriate outreach.

This proposed campaign directly supports the FSIS 2023-2026 Strategic Plan, which focuses on the need to continue to expand consumer education pertaining to food safety while also reaching out to larger and more diverse audiences.

Preliminary research is necessary to learn more about how to best tailor campaign messages to suit the needs of the audiences of focus. The goal of the proposed research study is to learn more about African American/Black and Hispanic/Latino parent and caregiver knowledge, attitudes, and current behaviors regarding food safety. The information collected from this research will be used to develop and tailor messages to suit audience needs. Further, audience feedback about draft messaging strategies and approaches is necessary to ensure that campaign messages will appeal to audiences.

The proposed effort seeks to undertake two rounds of interviews with members of target audiences to gain a greater understanding of the knowledge, attitudes, and current behaviors of those who have the potential to benefit from this campaign. These research activities will involve collecting qualitative information about consumer food safety knowledge, attitudes, practices, culture, and preferred food safety information sources. A final goal will be to gather feedback on proposed FSIS food safety messages and understand their possible influence on future food safety behaviors among consumers.

Findings from the proposed interviews will provide FSIS with the information needed to create a messaging campaign focused on Black/African American and Hispanic/Latino parent and caregivers to enhance food safety in home and personal food preparation contexts. Specifically, findings from the interviews will provide insight into how to effectively inform the focal audiences about recommended safe food handling practices. They will also inform message design to improve food safety behaviors among parents and caregivers.

FSIS has contracted with Fors Marsh to conduct two series of interviews with adults from the segments of focus. Each series will include 15 interviews. The first set of 15 interviews will be conducted with African American/Black adults and first-generation Hispanic/Latino adults who are parents and caregivers (e.g., providing care and preparing meals for at least one child or at least one older adult). These interviews will be organized based on ethnicity. To be eligible, participants also cannot be current or previous federal employees or have an immediate family member who works for the federal government.

The goals of the first phase of interviews will be to: (a) gather information about consumers' knowledge, attitudes, and behaviors about food safety, (b) learn more about preferred communication channels used by consumers to learn about food safety, and (c) gather consumer feedback relating to potential messaging directions for the campaign effort (e.g., statements, images, or colors used).

A team of creative experts will be working to draft initial ideas for food safety campaign efforts. Before developing specific campaign materials, the campaign team would first like to get feedback from prospective audience members about proposed campaign themes and gain more feedback on possible methods of message distribution (e.g., television, radio, social media). This type of preliminary feedback is essential in culturally tailored campaign efforts to make sure that messages will connect with audience members before more resources are spent on turning the proposed themes into actual campaign materials (e.g., social media posts, factsheets).

After information is collected from the first set of interviews, it will be used to inform the creation of specific promotional materials. At this point, a second set/phase of 15 interviews will be completed to better understand audience reactions to proposed campaign messaging approaches and materials. These messages will focus on enhancing food safety and reducing cross-contamination; however, the specific message content, form, and structure will be decided based on essential information drawn from the first round of interviews.

Phase two interviews will also be completed with African American/Black adults and first-generation Hispanic/Latino adults who are parents and caregivers who prepare meals for minors or older adults.

The same enrollment criteria (e.g., ethnicity, caretaker status, language spoken) that was used for the first round of interviews will be used for this round as well. The need for the second round of interviews is to build on information drawn from the first round of interviews. Data collected from the first round of interviews will be used to develop campaign messages and materials. The second round of interviews are needed to ensure the text and images used are culturally appropriate. Since this project will gather feedback on materials for a completely new campaign effort, no existing datasets are able to provide the information needed to inform the design of these new messages.

To recruit participants, the contractor will partner with a recruitment vendor to screen and identify participants who are eligible to participate in the interviews based on ethnicity and status as a parent or caregiver (specifically an individual who is providing care and preparing meals to at least one child or one older adult). The recruiter will send invitations to screen to 3,050 individuals and then screen 1,440 individuals to find the 30 individuals who will take part in the study (15 in interview phase 1 and 15 in interview phase 2). Up to 30 interviews will be conducted in total. Each interview will last no longer than 60 minutes. Participants will receive a $75 incentive for participation.

Need and Use of the Information: Information will be collected using interviews. Interviews will provide OPACE with the information needed to develop and disseminate effective messaging to help reduce foodborne illness among parents and caregivers. The lack of information in this area would impede the Agency's ability to provide more useful information to consumers to help reduce foodborne illness in the United States.

Estimate of Burden: Participants will be recruited for the study through 3,050 emails sent from a recruitment vendor to members of their research panel. It is expected that 1,440 individuals will complete a screener to determine eligibility for the interviews with 30 individuals completing the interviews. The screener is expected to last 15 minutes. The interviews are expected to last 60 minutes.

Estimated Annual Reporting Burden for Interviews

Estimated Annual Reporting Burden for Screener and Interviews
Study component | Sample size | Freq | Responses: Count | Responses: Freq × count | Responses: Min\resp | Responses: Burden hours | Non-responses: Count | Non-responses: Freq × count | Non-responses: Min\resp | Non-responses: Burden hours | Total hours
Screener
Email Invitation | 3,050 | 1 | 1,440 | 1,440 | 3 | 72 | 1,610 | 1,610 | 3 | 80.5 | 152.5
Screener | 1,440 | 1 | 36 | 36 | 15 | 9 | 1,404 | 1,404 | 15 | 351 | 360
In Depth Interview
Email Invitation | 36 | 1 | 30 | 30 | 7 | 3.5 | 6 | 6 | 7 | 0.7 | 4.2
Interview | 36 | 1 | 30 | 30 | 60 | 30 | 6 | 6 | 0 | 0 | 30
Total Burden | 4,562 |  |  |  |  | 114.5 |  |  |  | 432.2 | 546.7

Respondents: Consumers.

Estimated Number of Respondents: 4,562.

Estimated Number of Annual Responses per Respondent: 1.

Estimated Total Burden on Respondents: 547 hours.

All responses to this notice will be summarized and included in the request for OMB approval. All comments will also become a matter of public record. Copies of this information collection assessment can be obtained from Gina Kouba, Office of Policy and Program Development, Food Safety and Inspection Service, USDA, 1400 Independence Avenue SW, Mailstop 3758, South Building, Washington, DC 20250-3700; (202) 937-4272.

Comments are invited on: (a) whether the proposed collection of information is necessary for the proper performance of FSIS' functions, including whether the information will have practical utility; (b) the accuracy of FSIS' estimate of the burden of the proposed collection of information, including the validity of the method and assumptions used; (c) ways to enhance the quality, utility, and clarity of the information to be collected; and (d) ways to minimize the burden of the collection of information, including through the use of appropriate automated, electronic, mechanical, or other technological collection techniques, or other forms of information technology. Comments may be sent to both FSIS, at the addresses provided above, and the Desk Officer for Agriculture, Office of Information and Regulatory Affairs, Office of Management and Budget (OMB), Washington, DC 20253.

Additional Public Notification

Public awareness of all segments of rulemaking and policy development is important. Consequently, FSIS will announce this Federal Register publication on-line through the FSIS web page located at: https://www.fsis.usda.gov/federal-register.

FSIS will also announce and provide a link to this Federal Register publication through the FSIS Constituent Update, which is used to provide information regarding FSIS policies, procedures, regulations, Federal Register notices, FSIS public meetings, and other types of information that could affect or would be of interest to our constituents and stakeholders. The Constituent Update is available on the FSIS web page. Through the web page, FSIS can provide information to a much broader, more diverse audience. In addition, FSIS offers an email subscription service which provides automatic and customized access to selected food safety news and information. This service is available at: https://www.fsis.usda.gov/subscribe. Options range from recalls to export information, regulations, directives, and notices. Customers can add or delete subscriptions themselves and have the option to password protect their accounts.

USDA Non-Discrimination Statement

In accordance with Federal civil rights law and USDA civil rights regulations and policies, USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the Federal Relay Service at (800) 877-8339.

To file a program discrimination complaint, a complainant should complete a Form AD-3027, USDA Program Discrimination Complaint Form, which can be obtained online at https://www.ocio.usda.gov/document/ad-3027, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture Office of the Assistant Secretary for Civil Rights 1400 Independence Avenue SW, Washington, DC 20250-9410;

(2) Fax: (833) 256-1665 or (202) 690-7442; or

(3) Email: program.intake@usda.gov.

USDA is an equal opportunity provider, employer, and lender.

Paul Kiecker,
Administrator.

[FR Doc. 2023-14533 Filed 7-10-23; 8:45 am]

BILLING CODE 3410-DM-P